DEPARTMENT OF THE INTERIOR

Bureau of Land Management

[LLAZ910000.L12100000.XP0000LXSS150A00006100.241A]

State of Arizona Resource Advisory Council Meeting

AGENCY: Bureau of Land Management, Interior.

ACTION: Notice of Arizona Resource Advisory Council Meeting.

SUMMARY: In accordance with the Federal Land Policy and Management Act of 1976 and the Federal Advisory Committee Act of 1972, the U.S. Department of the Interior, Bureau of Land Management (BLM), Arizona Resource Advisory Council (RAC), will meet on February 3, 2011, at the BLM National Training Center located at 9828 North 31st Avenue in Phoenix from 8 a.m. until 4:30 p.m. Agenda items include: BLM State Director's update on statewide programs and issues; presentation on water; updates on the Renewable Energy Strategy, Restoration Design Energy Project Programmatic Environmental Impact Statement (EIS), and Northern Arizona Proposed Mineral Withdrawal Draft EIS; RAC questions on BLM District Managers' Reports; and reports by the RAC working groups. A public comment period will be provided at 11:30 a.m. on February 3, 2011, for any interested members of the public who wish to address the Council on BLM programs and business.

Under the Federal Lands Recreation Enhancement Act, the RAC has been designated as the Recreation Resource Advisory Council (RRAC), and has the authority to review all BLM and Forest Service (FS) recreation fee proposals in Arizona. The RRAC will not review any recreation fee proposals at this meeting.

DATES: Effective Date: February 3, 2011.

FOR FURTHER INFORMATION CONTACT: Dorothea Boothe, Bureau of Land Management, Arizona State Office, One North Central Avenue, Suite 800, Phoenix, Arizona 85004-4427, 602-417-9504.

Dated: December 28, 2010.
James G. Kenna,
Arizona State Director.

[FR Doc. 2010-33339 Filed 1-4-11; 8:45 am]

BILLING CODE 4310-32-P